DEPARTMENT OF STATE

[Public Notice: 10918]

Notification of the Thirteenth CAFTA-DR Environmental Affairs Council Meeting

AGENCY: Department of State

ACTION: Notice of the thirteenth CAFTA-DR Environmental Affairs Council meeting and request for comments.

SUMMARY: The Department of State and the Office of the United States Trade Representative are providing notice that the parties to the Dominican Republic-Central America-United States Free Trade Agreement (CAFTA-DR) intend to hold the thirteenth meeting of the Environmental Affairs Council (the Council) established under Chapter 17 (Environment) of that agreement in Miami, Florida, United States on November 13 and 14, 2019.

DATES: The public session of the Council will be held on November 14, 2019, from 10:00 a.m. to 1:00 p.m. Please contact Sarah Flores and Katy Sater for the location of this meeting. We request comments and suggestions in writing no later than October 18, 2019.

ADDRESSES: Written comments or suggestions should be submitted to both: (1) Sarah Flores, U.S. Department of State, Bureau of Oceans and International Environmental and Scientific Affairs, Office of Environmental Quality and Transboundary Issues by email to FloresSC@state.gov with the subject line “CAFTA-DR EAC Meeting”; and

(2) Katy Sater, Director for Environment and Natural Resources, Office of the United States Trade Representative by email to mary.c.sater@ustr.eop.gov with the subject line “CAFTA-DR EAC Meeting”.

If you have access to the internet you can view and comment on this notice by going to: http://www.regulations.gov/#!home and searching for docket number DOS- DOS-2019-0032.

FOR FURTHER INFORMATION CONTACT: Sarah Flores, (202) 647-0156, or Katy Sater, (202) 395-9522

SUPPLEMENTARY INFORMATION: On November 13, the Council will meet in a closed government-to-government session to (1) review implementation of the environment chapter and discuss how parties are meeting their environment chapter obligations; (2) highlight environmental enforcement and achievements in the past year and share related lessons learned and best practices; (3) review ongoing work under the environmental cooperation program; and (4) receive a report from the CAFTA-DR Secretariat for Environmental Matters on the status of the public submissions process.

On November 14, the Council invites all interested persons to attend a public session on Chapter 17 implementation, beginning at 10:00 a.m. in Miami, Florida. At the session, the Council will welcome questions, input, and information about challenges and achievements in implementation of the Chapter obligations and the related Environmental Cooperation Agreement (ECA). If you would like to attend the public session, please notify Sarah Flores and Katy Sater at the email addresses listed under the heading ADDRESSES. Please include your full name and identify any organization or group you represent.

The Department of State and Office of the United States Trade Representative also invite written comments or suggestions regarding topics to be discussed at the Council meeting to be submitted no later than October 18, 2019. When preparing comments, we encourage submitters to refer to Chapter 17 (Environment) of the CAFTA-DR and the CAFTA-DR Environmental Cooperation Agreement (documents available at http://www.state.gov/e/oes/eqt/trade/caftadr/index.htm and https://ustr.gov/issue-areas/environment/bilateral-and-regional-trade-agreements). Instructions on how to submit comments are under the heading ADDRESSES.

Article 17.5 of the CAFTA-DR establishes an Environmental Affairs Council (the Council) and provides that, unless the CAFTA-DR parties otherwise agree, the Council will meet annually to oversee the implementation of, and review progress under, Chapter 17, and to consider the status of cooperation activities developed under the ECA. Article 17.5 further requires that, unless the parties otherwise agree, each meeting of the Council include a session in which members of the Council have an opportunity to meet with the public to discuss matters relating to the implementation of Chapter 17.

In preparing comments, we encourage submitters to refer to:

• Chapter 17 of the CAFTA-DR and

• The ECA

These documents are available at: http://www.state.gov/e/oes/eqt/trade/caftadr/index.htm and https://ustr.gov/issue-areas/environment/bilateral-and-regional-trade-agreements. Visit the State website at http://www.state.gov and the USTR website at www.ustr.gov for more information.

Robert D. Wing,
Acting Director, Office of Environmental Quality and Transboundary Issues, Department of State.

[FR Doc. 2019-21836 Filed 10-4-19; 8:45 am]

BILLING CODE 4710-09-P